DEPARTMENT OF ENERGY

Federal Energy Regulatory Commission

Notice of Application Tendered for Filing With the Commission and Soliciting Additional Study Requests

September 7, 2004.

Take notice that the following hydroelectric application has been filed with the Federal Energy Regulatory Commission and is available for public inspection:

a. Type of Application: New Major License.

b. Project No.: P-11910-000.

c. Date filed: August 31, 2004.

d. Applicant: Symbiotics, LLC.

e. Name of Project: Applegate Dam Hydroelectric Project.

f. Location: On the Applegate River, near the town of Medford, Jackson County, Oregon. The proposed project would be located at the existing Applegate dam and reservoir, which are owned and operated by the Department of the Army, Corps of Engineers. The proposed project boundary would include approximately 8.3 acres of U.S. lands.

g. Filed Pursuant to: Federal Power Act 16 U.S.C. 791(a)—825(r).

h. Applicant Contact: Brent L. Smith, Northwest Power Services, Inc., P.O. Box 535, Rigby, Idaho 83442, (208)745-0834

i. FERC Contact: Patti Leppert, patricia.leppert@ferc.gov, (202) 502-6304.

j. Pursuant to 18 CFR 4.32(b)(7) of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

k. Deadline for filing additional study requests and requests for cooperating agency status: October 31, 2004.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Additional study requests and requests for cooperating agency status may be filed electronically via the Internet in lieu of paper. The Commission strongly encourages electronic filings. See 18 CFR 385.2001(a)(1)(iii) and the instructions on the Commission's Web site http://www.ferc.gov under the “e-Filing” link.

l. The application is not ready for environmental analysis at this time.

m. The Applicant proposes to utilize the existing Applegate Dam, Applegate Reservoir, outlet works, and spillway, owned and operated by the Department of the Army, Corps of Engineers. The Applicant proposes to construct a powerhouse with an installed capacity of 10 megawatts at the area downstream from the dam. The Applicant also proposes to construct a new 15-mile-long, 69-kilovolt overhead power transmission line to connect the powerhouse with a substation located at Ruch, Oregon. The average annual generation is estimated to be 44,300,000 kilowatt-hours.

n. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at (866) 208-3676, or for TTY, (202) 502-8659. A copy is also available for inspection and reproduction at the address in item h above.

You may also register online at http://www.ferc.gov/docs-filing/esubscription.asp to be notified via e-mail of new filings and issuances related to this or other pending projects. For assistance, contact FERC Online Support.

o. With this notice, we are initiating consultation with the Oregon State Historic Preservation Officer (SHPO), as required by Section106 of the National Historic Preservation Act, and the regulations of the Advisory Council on Historic Preservation, 36 CFR 800.4.

p. Procedural schedule and final amendments: The application will be processed according to the following Hydro Licensing Schedule. Revisions to the schedule will be made as appropriate.

Issue Acceptance/Deficiency Letter—October 2004.

Request Additional Information—October 2004.

Issue Acceptance Letter—January 2005.

Issue Scoping Document 1 for comments—February 2005.

Request Additional Information (if necessary)—April 2005.

Issue Scoping Document 2—June 2005.

Notice that application is ready for environmental analysis (EA)—June 2005.

Notice of the availability of the draft EA—December 2005.

Notice of the availability of the final EA—June 2006.

Ready for Commission's decision on the application—October 2006.

Magalie R. Salas,
Secretary.

[FR Doc. E4-2174 Filed 9-13-04; 8:45 am]

BILLING CODE 6717-01-P